NATIONAL SCIENCE FOUNDATION

Agency Information Collection Activities: Comment Request; National Survey of College Graduates

AGENCY: National Science Foundation, National Center for Science and Engineering Statistics.

ACTION: Notice.

SUMMARY: The National Science Foundation (NSF) is announcing plans to renew this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by November 4, 2024 to be assured consideration. Comments received after that date will be considered to the extent practicable. Send comments to the address below.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: 2023 National Survey of College Graduates.

OMB Control Number: 3145-0141.

Expiration Date of Current Approval: April 30, 2025.

Type of Request: Intent to seek approval to extend an information collection for three years.

Abstract: Established within NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

The National Survey of College Graduates (NSCG) is designed to comply with these mandates by providing information on the supply and utilization of the nation's scientists and engineers. The purpose of the NSCG is to collect data that will be used to provide national estimates on the size, composition such as demographics, fields of degree and veteran's status, and activities such as work activities, work-related training, professional conference attendance of the science and engineering workforce and changes in their employment, education, and demographic characteristics (for example, race and ethnicity, citizenship, gender, age, disability status, place of birth). The NSCG has been conducted biennially since the 1970s. The 2025 NSCG sample will be selected from the 2023 American Community Survey (ACS) and the 2023 NSCG. By selecting the sample from these two sources, the 2025 NSCG will provide coverage of the college graduate population residing in the United States.

The U.S. Census Bureau, as the agency responsible for the ACS, will serve as the NSCG data collection contractor for NCSES. The survey data collection is expected to begin in March 2025 and continue for approximately six months. Data will be collected using web and mail questionnaires. The individual's response to the survey is voluntary. The survey will be conducted in conformance with Census Bureau statistical quality standards and, as such, the NSCG data will be afforded confidentiality protection under the applicable Census Bureau confidentiality statutes.

Use of the Information: NSF uses the information from the NSCG to prepare congressionally mandated reports such as Diversity and STEM: Women, Minorities and Persons with Disabilities (https://www.nsf.gov/statistics/women/) and Science and Engineering Indicators (https://ncses.nsf.gov/indicators), both of which are available online. A public release file of collected data, designed to protect respondent confidentiality, will be made available on the internet and will be accessible through an online data tool (https://ncsesdata.nsf.gov/ids/).

Expected Respondents: A statistical sample of approximately 161,000 individuals (103,000 returning sample members and 58,000 new sample members) will be contacted in 2025, using the ACS as the sampling frame in the rotating panel design. Under the rotating panel design, the 2025 NSCG production sample will include 161,000 sample cases which comprises:

1. Returning sample from the 2023 NSCG (originally selected from the 2017 ACS);

2. Returning sample from the 2023 NSCG (originally selected from the 2019 ACS);

3. Returning sample from the 2023 NSCG (originally selected from the 2021 ACS); and

4. New sample selected from the 2023 ACS

Based on recent survey cycles, NCSES expects the overall response rate to be 60-65 percent.

Estimate of Burden: The amount of time to complete the questionnaire may vary depending on an individual's educational history, employment status, and past response to the NSCG. The time to complete the 2023 NSCG web survey ranged from 19.6 minutes on average for the returning sample members to 26.3 minutes on average for the new members, and approximately 91% of respondents completed the survey by using the web mode. Among respondents who completed the survey using Computer Assisted Telephone Interviewing (CATI) and Telephone Questionnaire Assistance (TQA) modes, in which sample members contacted Census's call center and took the survey over the phone, their interview times ranged from 33.6 minutes for returning sample members to 44.3 minutes for new sample members, and less than 2% of respondents completed the NSCG questionnaire by using the telephone mode. It was estimated that all forms of the 2023 NSCG paper questionnaire took 30 minutes to complete, and about 7% of respondents completed the paper form. Although the 2023 NSCG include a CATI mode, this mode is proposed to be discontinued in the 2025 NSCG due to increasing costs, reduced budget and low response in the 2023 cycle. TQA staff will take incoming interviews.

Based on the 2023 cycle's survey completion times, it is estimated that it will take approximately 23 minutes, on average, to complete the 2025 NSCG questionnaire. This takes into account the proposed removal of CATI and the continuation of TQA. This estimate also takes into account the continuation of web and paper modes. The estimated response burden has been adjusted by proportionally allocating the number of CATI cases in the previous year to mail, web, and TQA cases in the previous year. NSF estimates that the average annual burden for the 2025 survey cycle over the course of the three-year OMB clearance period will be no more than 13,372 hours [(161,000 individuals × 65% response rate × 23 minutes)/3 years].

Comments: Comments are invited on (a) whether the proposed collection of information is necessary for the proper performance of the functions of the NSF, including whether the information shall have practical utility; (b) the accuracy of the NSF's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: August 29, 2024.
Suzanne H. Plimpton,
Reports Clearance Officer, National Science Foundation.

[FR Doc. 2024-19850 Filed 9-3-24; 8:45 am]

BILLING CODE 7555-01-P